DEPARTMENT OF HOMELAND SECURITY

Coast Guard

33 CFR Part 117

[Docket No. USCG-2017-0936]

RIN 1625-AA09

Drawbridge Operation Regulation; Snake Creek; Islamorada, FL

AGENCY: Coast Guard, DHS.

ACTION: Notice of deviation from drawbridge regulation.

SUMMARY: The Coast Guard has issued a temporary deviation from the operating schedule that governs the Snake Creek Bridge across Snake Creek, at Islamorada, FL. The deviation is necessary to alleviate the increased traffic congestion on US 1 Highway resulting from relief efforts after the passing of Hurricane Irma. This deviation allows the bridge to open once every two hours verses the current operating regulation. Local officials are requesting this action to assist in reducing the long line of traffic backups caused by the bridge openings.

DATES: This deviation is effective without actual notice from October 26, 2017, through 7 a.m. on November 1, 2017. For the purposes of enforcement, actual notice will be used from 7 a.m. on September 29, 2017, until October 26, 2017.

ADDRESSES: The docket for this deviation, USCG-2017-0936 is available at http://www.regulations.gov. Type the docket number in the “SEARCH” box and click “SEARCH”. Click on Open Docket Folder on the line associated with this deviation.

FOR FURTHER INFORMATION CONTACT: If you have questions on this temporary deviation, call or email LT Scott Ledee, Chief Waterways Management Division, U.S. Coast Guard Sector Key West, Coast Guard; telephone (305) 292-8768, email; Scott.G.Ledee@uscg.mil.

SUPPLEMENTARY INFORMATION: The Village of Islamorada Florida with concurrence of Florida Department of Transportation, the bridge owner, has requested a temporary change in the operating regulation for the Snake Creek Bridge on US Highway 1 crossing Snake Creek in Islamorada, Florida. The bridge has a vertical clearance of 27 feet in the closed position. With the passing of Hurricane Irma, the lower Keys have been devastated. With this increased time between openings, this deviation will allow a more uninterrupted flow of vehicle traffic carrying restorative supplies into the lower Keys without severely hindering vessel traffic. The Snake Creek Drawbridge currently operates under 33 CFR 117.331.

The deviation period is from 7 a.m. on September 29, 2017 to 7 a.m. on November 1, 2017. During this period, the bridge will open on signal, except that from 7 a.m. to 7 p.m. the draw need only open every two hours, on the hour.

Vessels able to pass through the bridge in the closed position may do so at anytime. The bridge will be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: October 2, 2017.
Barry L. Dragon,
Director, Bridge Branch, Seventh Coast Guard District.

[FR Doc. 2017-23320 Filed 10-25-17; 8:45 am]

BILLING CODE 9110-04-P